DEPARTMENT OF TRANSPORTATION

Federal Aviation Administration

14 CFR Part 39

[Docket No. FAA-2006-25084; Directorate Identifier 2005-SW-38-AD]

RIN 2120-AA64

Airworthiness Directives; Bell Helicopter Textron Canada Model 206L Series Helicopters

AGENCY: Federal Aviation Administration, DOT.

ACTION: Notice of proposed rulemaking (NPRM).

SUMMARY: This document proposes adopting a new airworthiness directive (AD) for the Bell Helicopter Textron Canada (BHTC) Model 206L series helicopters. This proposal would require inspecting the fuel low-level detector switch unit (switch unit) to determine if it is a certain serial-numbered switch unit that may fail to indicate a low fuel condition. If the serial number is missing or unreadable, the mounting flange of the switch unit is not colored red or the purchase date is within a certain range or cannot be determined, this proposal would require an operational test. The AD would also require replacing before further flight each affected switch unit with an airworthy switch unit that is not listed in the applicability of the AD. This proposal is prompted by the manufacturer's discovery that eight switch units may have a manufacturing flaw that could cause them to hang in the high position and fail to indicate a low fuel condition. The actions specified by this proposed AD are intended to prevent failure of the switch unit to indicate a low fuel condition that could lead to fuel exhaustion and a subsequent forced landing.

DATES: Comments must be received on or before August 21, 2006.

ADDRESSES: Use one of the following addresses to submit comments on this proposed AD:

• DOT Docket Web site: Go to http://dms.dot.gov and follow the instructions for sending your comments electronically;

• Government-wide rulemaking Web site: Go to http://www.regulations.gov and follow the instructions for sending your comments electronically;

• Mail: Docket Management Facility; US Department of Transportation, 400 Seventh Street, SW., Nassif Building, Room PL-401, Washington, DC 20590;

• Fax: 202-493-2251; or

• Hand Delivery: Room PL-401 on the plaza level of the Nassif Building, 400 Seventh Street, SW., Washington, DC, between 9 a.m. and 5 p.m., Monday through Friday, except Federal holidays.

You may get the service information identified in this proposed AD from Bell Helicopter Textron Canada, 12,800 Rue de l'Avenir, Mirabel, Quebec J7J1R4, telephone (450) 437-2862 or (800) 363-8023, fax (450) 433-0272.

You may examine the comments to this proposed AD in the AD docket on the Internet at http://dms.dot.gov.

FOR FURTHER INFORMATION CONTACT: Chinh Vuong, Aviation Safety Engineer, FAA, Rotorcraft Directorate, Safety Management Group, Fort Worth, Texas 76193-0112, telephone (817) 222-5116, fax (817) 222-5961.

SUPPLEMENTARY INFORMATION:

Comments Invited

We invite you to submit any written data, views, or arguments regarding this proposed AD. Send your comments to the address listed under the caption ADDRESSES. Include the docket number “FAA-2006-25084, Directorate Identifier 2005-SW-38-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed rulemaking. Using the search function of our docket Web site, you can find and read the comments to any of our dockets, including the name of the individual who sent or signed the comment. You may review the DOT's complete Privacy Act Statement in the Federal Register published on April 11, 2000 (65 FR 19477-78), or you may visit http://dms.dot.gov.

Examining the Docket

You may examine the docket that contains the proposed AD, any comments, and other information in person at the Docket Management System (DMS) Docket Office between 9 a.m. and 5 p.m., Monday through Friday, except Federal holidays. The Docket Office (telephone 1-800-647-5227) is located at the plaza level of the Department of Transportation Nassif Building in Room PL-401 at 400 Seventh Street, SW., Washington, DC. Comments will be available in the AD docket shortly after the DMS receives them.

Discussion

Transport Canada, the airworthiness authority for Canada, notified the FAA that an unsafe condition may exist on BHTC Model 206L series helicopters. Transport Canada advises that eight low fuel level detectors of listed serial numbers may have been installed on Model 206L series helicopters. These detectors could hang in the high position and fail to indicate the low fuel condition. Transport Canada advises removing from service switch unit, part number 206-063-613-003, serial numbers 1413, 1414, 1415, 1424, 1428, 1430, 1432, and 1433.

BHTC has issued Alert Service Bulletin No. 206L-04-132, Revision A, dated October 4, 2004 (ASB). The ASB specifies determining whether any of eight specified, serial-numbered detector switch units are installed because they may fail to indicate a low fuel condition. If the serial number is missing or unreadable, the ASB specifies inspecting the switch unit to determine if it is an affected switch unit. The ASB also specifies removing each affected switch unit. Transport Canada classified this ASB as mandatory and issued AD No. CF-2004-24, dated November 24, 2004, to ensure the continued airworthiness of these helicopters in Canada.

These helicopter models are manufactured in Canada and are type certificated for operation in the United States under the provisions of 14 CFR 21.29 and the applicable bilateral agreement. Pursuant to the applicable bilateral agreement, Transport Canada has kept us informed of the situation described above. We have examined the findings of Transport Canada, reviewed all available information, and determined that AD action is necessary for products of these type designs that are certificated for operation in the United States.

This previously described unsafe condition is likely to exist or develop on other helicopters of these same type designs registered in the United States. Therefore, the proposed AD would require, on or before the next 100-hour time-in-service inspection, determining whether the low fuel level detector switch unit has a S/N listed in the applicability of this AD. If the serial number is missing or unreadable, this proposal would also require determining whether it is an affected switch unit. This AD would also require, before further flight, replacing each affected switch unit with an airworthy switch unit that is not listed in the applicability of this AD.

We estimate that this proposed AD would affect 719 helicopters of U.S. registry and would take about:

• ½ work hour to determine the serial number,

• 4 work hours to do a test of the low fuel caution system,

• 4 work hours to replace an affected switch per helicopter at $65 per work hour, and

• $426 to replace each switch unit.

Based on these figures, we estimate the total cost impact of the proposed AD on U.S. operators to be $91,480, assuming 10 percent of the fleet switch units (72) are replaced.

Regulatory Findings

We have determined that this proposed AD would not have federalism implications under Executive Order 13132. Additionally, this proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a draft economic evaluation of the estimated costs to comply with this proposed AD. See the DMS to examine the draft economic evaluation.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Bell Helicopter Textron, Inc.: Docket No. FAA-2006-25084; Directorate Identifier 2005-SW-38-AD.

Applicability

Model 206L series helicopters, with low fuel level detector switch unit (switch unit), part number 206-063-613-003, serial numbers 1413, 1414, 1415, 1424, 1428, 1430, 1432, and 1433, installed, certificated in any category.

Compliance

Required as indicated, unless accomplished previously.

To prevent failure of the switch unit to indicate a low fuel condition that could lead to fuel exhaustion and a subsequent forced landing, do the following:

(a) On or before the next 100-hour time-in-service inspection, determine whether the installed switch unit has a serial number listed in the applicability section of this AD. If the installed switch unit is one of the listed switch units, before further flight, replace it with an airworthy switch unit that has a serial number other than those listed in the applicability section of this AD. See Figure 1 of this AD for the location of the serial number.

BILLING CODE 4910-13-P

Note 1: Bell Helicopter Textron Alert Service Bulletin No. 206L-04-132, Revision A, dated October 4, 2004, pertains to the subject of this AD.

(b) If the switch unit serial number is missing or unreadable, determine the color of the switch unit mounting flange.

(1) If the mounting flange color is red, the switch unit is not affected by this AD.

(2) If the mounting flange color is other than red; the purchase date of the switch unit is between April 19 and July 26, 2004, or cannot be established; and the serial number cannot be identified, do an operational test. If the switch unit passes the operational test, this AD requires no further action. If the switch unit fails the operational test, before further flight, replace the switch unit with an airworthy switch unit that does not have a serial number listed in the applicability section of this AD.

(c) To request a different method of compliance or a different compliance time for this AD, follow the procedures in 14 CFR 39.19. Contact the Safety Management Group, Rotorcraft Directorate, FAA, ATTN: Chinh Vuong, Aviation Safety Engineer, Fort Worth, Texas 76193-0112, telephone (817) 222-5116, fax (817) 222-5961, for information about previously approved alternative methods of compliance.

Note 2: The subject of this AD is addressed in Transport Canada (Canada) AD CF-2004-24, dated November 24, 2004.

Issued in Fort Worth, Texas, on June 12, 2006.
Mark R. Schilling,
Acting Manager, Rotorcraft Directorate, Aircraft Certification Service.

[FR Doc. 06-5599 Filed 6-21-06; 8:45 am]

BILLING CODE 4910-13-C